DEPARTMENT OF COMMERCE

National Oceanic and Atmospheric Administration

RIN 0648-XA929

Marine Mammals; Photography Permit File No. 17032

AGENCY: National Marine Fisheries Service (NMFS), National Oceanic and Atmospheric Administration (NOAA), Commerce.

ACTION: Notice; receipt of application.

SUMMARY: Notice is hereby given that Shane Moore, Moore & Moore Films, Box 2980, 1203 Melody Creek Lane, Jackson, WY 83001, has applied in due form for a permit to conduct commercial or educational photography on killer (Orcinus orca) and gray (Eschrichtius robustus) whales in Alaska.

DATES: Written, telefaxed, or email comments must be received on or before February 13, 2012.

ADDRESSES: The application and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

Written comments on this application should be submitted to the Chief, Permits and Conservation Division, at the address listed above. Comments may also be submitted by facsimile to (301) 713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Carrie Hubard or Joselyd Garcia-Reyes, (301) 427-8401.

SUPPLEMENTARY INFORMATION: The subject permit is requested under the authority of the Marine Mammal Protection Act of 1972, as amended (MMPA; 16 U.S.C. 1361 et seq.) and the regulations governing the taking and importing of marine mammals (50 CFR part 216).

The applicant is requesting a five-year permit to film gray and killer whales in the eastern Aleutian Islands, primarily near Ikatan Bay and along the Ikatan Peninsula on the south side of Unimak Island, Alaska. The purpose of the project is to document killer whales hunting gray whales migrating through False Pass and Unimak Pass. In addition, the filmmaker hopes to document the behavior of marine animals in the presence of a gray whale carcass. Filming would occur between April and June of each year. A maximum of 35 killer whales and 10 gray whales could be closely approached annually. Footage would be obtained from vessel-mounted cameras, a polecam that would be submerged next to the boat, and, as the opportunity arises, from a remotely operated video camera in an underwater housing placed on the sea floor near a gray whale carcass. The applicant would share footage with the scientific community as it may reveal to what extent killer whales continue to feed on submerged kills, how they feed on these carcasses, and document what other animals may benefit from these carcasses as well. Footage would be used for a television program about predators and the challenges they face.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of the application to the Marine Mammal Commission and its Committee of Scientific Advisors.

Dated: January 10, 2012.
P. Michael Payne,
Chief, Permits and Conservation Division, Office of Protected Resources, National Marine Fisheries Service.

[FR Doc. 2012-608 Filed 1-12-12; 8:45 am]

BILLING CODE 3510-22-P